ENVIRONMENTAL PROTECTION AGENCY

40 CFR Part 52

[MN69-7294b; FRL-7265-1]

Approval and Promulgation of Implementation Plans; Minnesota

AGENCY: Environmental Protection Agency (EPA).

ACTION: Proposed rule.

SUMMARY: The EPA is proposing to approve a site-specific revision to the Minnesota particulate matter (PM) State Implementation Plan (SIP) for Metropolitan Council Environmental Service's (MCES) Metropolitan Wastewater Treatment Plant located on Childs Road in St. Paul, Ramsey County, Minnesota. The Minnesota Pollution Control Agency requested in its June 1, 2001 submittal that EPA approve into the Minnesota PM SIP certain portions of the federally enforceable state operating permit for the MCES Metropolitan Wastewater Treatment Plant and remove the MCES Administrative Order from the state PM SIP. The request is approvable because it satisfies the requirements of the Clean Air Act. Specifically, EPA is proposing to approve into the SIP only those portions of the permit cited as “Title I Condition: State Implementation Plan for PM10.” In addition, EPA is proposing to remove the MCES Metropolitan Wastewater Treatment Plant Administrative Order from the state PM SIP. In the final rules section of this Federal Register, EPA is approving the SIP revision as a direct final rule without prior proposal, because we view this as a noncontroversial revision amendment and anticipate no adverse comments. A detailed rationale for the approval is set forth in the direct final rule. If no adverse comments are received in response to the direct final rule, no further activity is contemplated in relation to this proposed rule. If adverse comments are received, the direct final rule will be withdrawn and all public comments received will be addressed in a subsequent final rule based on this proposed rule. We will not institute a second comment period on this action. Any parties interested in commenting on this action should do so at this time.

DATES: Written comments must be received on or before October 11, 2002.

ADDRESSES: Written comments should be sent to: Carlton T. Nash, Chief, Regulation Development Section, Air Programs Branch (AR-18J), EPA Region 5, 77 West Jackson Boulevard, Chicago, Illinois 60604-3590.

FOR FURTHER INFORMATION CONTACT: Christos Panos, Environmental Engineer, Regulation Development Section, Air Programs Branch (AR-18J), EPA Region 5, 77 West Jackson Boulevard, Chicago, Illinois 60604, (312) 353-8328.

SUPPLEMENTARY INFORMATION: For additional information, see the Direct Final notice which is located in the Rules section of this Federal Register. Copies of the request and the EPA's analysis are available for inspection at the above address. (Please telephone Christos Panos at (312) 353-8328 before visiting the Region 5 Office.)

Dated: August 13, 2002.
Bharat Mathur,
Acting Regional Administrator, Region 5.

[FR Doc. 02-22978 Filed 9-10-02; 8:45 am]

BILLING CODE 6560-50-P